DEPARTMENT OF TRANSPORTATION

Federal Aviation Administration

14 CFR Part 39

[Docket No. 99-NM-360-AD; Amendment 39-11743; AD 2000-10-19]

RIN 2120-AA64

Airworthiness Directives; Israel Aircraft Industries, Ltd., Model 1125 Westwind Astra and Astra SPX Series Airplanes

AGENCY: Federal Aviation Administration, DOT.

ACTION: Final rule.

SUMMARY: This amendment adopts a new airworthiness directive (AD), applicable to certain Israel Aircraft Industries, Ltd., Model 1125 Westwind Astra and Astra SPX series airplanes, that requires replacement of the existing pneumatic de-icing boot pressure indicator switch with a newly designed switch. This amendment is prompted by an occurrence on a similar airplane model in which the pneumatic de-icing boot indication light may have provided the flightcrew with misleading information as to the proper functioning of the de-icing boots. The actions specified by this AD are intended to prevent ice accumulation on the airplane leading edges, which could result in reduced controllability of the airplane.

DATES: Effective June 30, 2000.

The incorporation by reference of certain publications listed in the regulations is approved by the Director of the Federal Register as of June 30, 2000.

ADDRESSES: The service information referenced in this AD may be obtained from Galaxy Aerospace Corporation, One Galaxy Way, Fort Worth Alliance Airport, Fort Worth, Texas 76177. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Israel Aircraft Industries, Ltd., Model 1125 Westwind Astra and Astra SPX series airplanes was published in the Federal Register on January 24, 2000 (65 FR 3617). That action proposed to require replacement of the existing pneumatic de-icing boot pressure indicator switch with a newly designed switch.

Interested persons have been afforded an opportunity to participate in the making of this amendment. No comments were submitted in response to the proposal or the FAA's determination of the cost to the public.

Changes to the Proposed AD

Since issuance of the proposed AD, the manufacturer has issued Astra Alert Service Bulletin 1125-30A-199, dated April 17, 2000, which describes procedures for replacement of the wing and tail de-icing boot pressure indicator switches with improved switches. The Civil Aviation Administration of Israel (CAAI), which is the airworthiness authority for Israel, classified this service bulletin as mandatory. Additionally, the CAAI previously issued Israeli airworthiness directive 30-00-02-05, dated February 24, 2000, in order to assure the continued airworthiness of these airplanes in Israel.

The FAA has determined that the replacement described in the service bulletin provides an adequate method of addressing the unsafe condition identified in this AD. Paragraph (a) of the AD has been revised to include that replacement as an acceptable means of compliance to the requirements of the AD. The applicability of the AD has also been revised to exclude airplanes having serial number 116 and up, on which the replacement will be installed in production.

The FAA has also revised the “Cost Impact” section of the AD to provide the estimated cost of the replacement in accordance with the previously described service bulletin, and to revise the number of affected airplanes of U.S. registry.

Conclusion

After careful review of the available data, the FAA has determined that air safety and the public interest require the adoption of the rule with the changes described previously. The FAA has determined that these changes will neither increase the economic burden on any operator nor increase the scope of the AD.

Cost Impact

The FAA estimates that 89 airplanes of U.S. registry will be affected by this AD.

Should an operator elect to accomplish the replacement in accordance with Astra Alert Service Bulletin 1125-30A-199, it will take approximately 2 work hours per airplane to accomplish it, at an average labor rate of $60 per work hour. Required parts may cost as much as $1,455 per airplane. Based on these figures, the cost impact of the replacement on U.S. operators is estimated to be as much as $1,575 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-10-19 Israel Aircraft Industries, Ltd.: Amendment 39-11743. Docket 99-NM-360-AD.

Applicability: Model 1125 Westwind Astra and Astra SPX series airplanes, serial numbers 004 through 115 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent ice accumulation on the airplane leading edges, which could result in reduced controllability of the airplane, accomplish the following:

Modification

(a) Within 1 year after the effective date of this AD, replace the pneumatic de-icing boot pressure indicator switch with a switch that activates the flight deck indicator light at 15 pounds per square inch gage, in accordance with Astra Alert Service Bulletin 1125-30A-199, dated April 17, 2000, or in accordance with a method approved by the Manager, International Branch, ANM-116, FAA, Transport Airplane Directorate.

Alternative Methods of Compliance

(b) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) Except as provided by paragraph (a) of this AD, the actions shall be done in accordance with Astra Alert Service Bulletin 1125-30A-199, dated April 17, 2000. This incorporation by reference was approved by the Director of the Federal Register in accordance with 5 U.S.C. 552(a) and 1 CFR part 51. Copies may be obtained from Galaxy Aerospace Corporation, One Galaxy Way, Fort Worth Alliance Airport, Fort Worth, Texas 76177. Copies may be inspected at the FAA, Transport Airplane Directorate, 1601 Lind Avenue, SW., Renton, Washington; or at the Office of the Federal Register, 800 North Capitol Street, NW., suite 700, Washington, DC.

Note 3: The subject of this AD is addressed in Israeli airworthiness directive 30-00-02-05, dated February 24, 2000.

(e) This amendment becomes effective on June 30, 2000.

Issued in Renton, Washington, on May 16, 2000.
Donald L. Riggin,
Acting Manager, Transport Airplane Directorate, Aircraft Certification Service.

[FR Doc. 00-12813 Filed 5-25-00; 8:45 am]

BILLING CODE 4910-13-U